DEPARTMENT OF ENERGY

Federal Energy Regulatory Commission

Combined Notice of Filings #1

Take notice that the Commission received the following electric corporate filings:

Docket Numbers: EC23-29-000.

Applicants: Brantley Farm Solar, LLC, Buckleberry Solar, LLC, Fox Creek Farm Solar, LLC, Innovative Solar 54, LLC, Innovative Solar 67, LLC.

Description: Application for Authorization Under Section 203 of the Federal Power Act of Brantley Farm Solar, LLC, et al.

Filed Date: 11/17/22.

Accession Number: 20221117-5193.

Comment Date: 5 p.m. ET 12/8/22.

Take notice that the Commission received the following electric rate filings:

Docket Numbers: ER20-2575-001.

Applicants: Transource Missouri, LLC, American Electric Power Service Corporation, Southwest Power Pool, Inc.

Description: Compliance filing: Transource Missouri, LLC submits tariff filing per 35: AEP on behalf of affiliate Transource Missouri, Amended Order No. 864 Compliance to be effective1/27/2020.

Filed Date: 11/18/22.

Accession Number: 20221118-5101.

Comment Date: 5 p.m. ET 12/9/22.

Docket Numbers: ER20-2582-001.

Applicants: Transource West Virginia, LLC, American Electric Power Service Corporation, PJM Interconnection, L.L.C.

Description: Compliance filing: American Electric Power Service Corporation submits tariff filing per 35: Transource WV submits Order No. 864 Compliance Filing, Att. H-26 to be effective 1/27/2020.

Filed Date: 11/18/22.

Accession Number: 20221118-5072.

Comment Date: 5 p.m. ET 12/9/22.

Docket Numbers: ER20-2584-001.

Applicants: Transource Maryland, LLC, American Electric Power Service Corporation, PJM Interconnection, L.L.C.

Description: Compliance filing: American Electric Power Service Corporation submits tariff filing per 35: Transource MD submits Order No. 864 Compliance Filing, Att. H-30A to be effective 1/27/2020.

Filed Date: 11/18/22.

Accession Number: 20221118-5068.

Comment Date: 5 p.m. ET 12/9/22.

Docket Numbers: ER20-2585-001.

Applicants: Transource Pennsylvania, LLC, American Electric Power Service Corporation, PJM Interconnection, L.L.C.

Description: Compliance filing: American Electric Power Service Corporation submits tariff filing per 35: Transource PA submits Order No. 864 Compliance Filing, Att. H-29A to be effective 1/27/2020.

Filed Date: 11/18/22.

Accession Number: 20221118-5071.

Comment Date: 5 p.m. ET 12/9/22.

Docket Numbers: ER21-1280-000.

Applicants: Southern California Edison Company.

Description: Southern California Edison Company submits Morongo Transmission Annual Formula Transmission Rate Filing for Rate Year 2023.

Filed Date: 11/18/22.

Accession Number: 20221118-5093.

Comment Date: 5 p.m. ET 12/9/22.

Docket Numbers: ER22-2125-001.

Applicants: Duke Energy Progress, LLC.

Description: Compliance filing: DEP—NCEMC—RS No. 182 Compliance Filing to be effective 1/1/2022.

Filed Date: 11/18/22.

Accession Number: 20221118-5166.

Comment Date: 5 p.m. ET 12/9/22.

Docket Numbers: ER22-2701-000.

Applicants: Mechanicsville Solar, LLC.

Description: Refund Report: Refund report to be effective N/A.

Filed Date: 11/18/22.

Accession Number: 20221118-5061.

Comment Date: 5 p.m. ET 12/9/22.

Docket Numbers: ER22-2806-002.

Applicants: American Electric Power Service Corporation, Appalachian Power Company, PJM Interconnection, L.L.C.

Description: Tariff Amendment: American Electric Power Service Corporation submits tariff filing per 35.17(b): AEP submits second amendment to amended ILDSA, SA No. 1252 in ER22-2806 to be effective 9/1/2022.

Filed Date: 11/18/22.

Accession Number: 20221118-5062.

Comment Date: 5 p.m. ET 12/9/22.

Docket Numbers: ER23-109-000.

Applicants: San Diego Gas & Electric.

Description: Annual Informational Appendix X, Formula Rate of the Transmission Owner Tariff of San Diego Gas & Electric Company.

Filed Date: 10/14/22.

Accession Number: 20221014-5235.

Comment Date: 5 p.m. ET 12/9/22.

Docket Numbers: ER23-110-000.

Applicants: San Diego Gas & Electric.

Description: Annual Informational Appendix XII, Formula Rate of the Transmission Owner Tariff, of San Diego Gas & Electric Company.

Filed Date: 10/14/22.

Accession Number: 20221014-5236.

Comment Date: 5 p.m. ET 12/9/22.

Docket Numbers: ER23-456-000.

Applicants: Public Service Company of Colorado.

Description: § 205(d) Rate Filing: 2022-11-17 WAPA Const Fac Agmt 359-PSCo-Exh No. 15 Amnd to be effective 12/28/2022.

Filed Date: 11/17/22.

Accession Number: 20221117-5147.

Comment Date: 5 p.m. ET 12/8/22.

Docket Numbers: ER23-457-000.

Applicants: El Paso Electric Company.

Description: § 205(d) Rate Filing: Service Agreement No. 380 LGIA with Hecate Energy Santa Teresa LLC (Hecate 1) to be effective 7/6/2022.

Filed Date: 11/17/22.

Accession Number: 20221117-5153.

Comment Date: 5 p.m. ET 12/8/22.

Docket Numbers: ER23-458-000.

Applicants: El Paso Electric Company.

Description: § 205(d) Rate Filing: Service Agreement No. 381 LGIA with Hecate Energy Santa Teresa 2 LLC (Hecate 2) to be effective 10/25/2022.

Filed Date: 11/17/22.

Accession Number: 20221117-5156.

Comment Date: 5 p.m. ET 12/8/22.

Docket Numbers: ER23-459-000.

Applicants: PJM Interconnection, L.L.C.

Description: § 205(d) Rate Filing: Amendment to WMPA, Service Agreement No. 5294; Queue No. AC2-120 to be effective 2/7/2019.

Filed Date: 11/18/22.

Accession Number: 20221118-5023.

Comment Date: 5 p.m. ET 12/9/22.

Docket Numbers: ER23-460-000.

Applicants: Georgia Power Company

Description: § 205(d) Rate Filing: GPCo 2022 PBOP Filing to be effective 1/1/2022.

Filed Date: 11/18/22.

Accession Number: 20221118-5031.

Comment Date: 5 p.m. ET 12/9/22.

Docket Numbers: ER23-461-000.

Applicants: Mississippi Power Company.

Description: § 205(d) Rate Filing: MPCo PBOP 2022 Filing to be effective 1/1/2022.

Filed Date: 11/18/22.

Accession Number: 20221118-5032.

Comment Date: 5 p.m. ET 12/9/22.

Docket Numbers: ER23-462-000.

Applicants: Southern Electric Generating Company.

Description: § 205(d) Rate Filing: SEGCo 2022 PBOP Filing to be effective 1/1/2022.

Filed Date: 11/18/22.

Accession Number: 20221118-5033.

Comment Date: 5 p.m. ET 12/9/22.

Docket Numbers: ER23-463-000.

Applicants: Southwest Power Pool, Inc.

Description: § 205(d) Rate Filing: 3915 Midway Wind Project and ITC Great Plains E&P Agr Cancel to be effective 6/14/2022.

Filed Date: 11/18/22.

Accession Number: 20221118-5064.

Comment Date: 5 p.m. ET 12/9/22.

Docket Numbers: ER23-464-000.

Applicants: PJM Interconnection, L.L.C.

Description: § 205(d) Rate Filing: ISA, SA No. 6688; Queue No. AE1-105 to be effective 10/21/2022.

Filed Date: 11/18/22.

Accession Number: 20221118-5075.

Comment Date: 5 p.m. ET 12/9/22.

Docket Numbers: ER23-465-000.

Applicants: Southern California Edison Company.

Description: § 205(d) Rate Filing: 3rd Amended LGIA Willy 9 SA No. 216 TOT793 to be effective 11/19/2022.

Filed Date: 11/18/22.

Accession Number: 20221118-5078.

Comment Date: 5 p.m. ET 12/9/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2022.
Kimberly D. Bose,
Secretary.

[FR Doc. 2022-25718 Filed 11-23-22; 8:45 am]

BILLING CODE 6717-01-P